DEPARTMENT OF COMMERCE

Foreign-Trade Zones Board

[Docket 50-2010]

Foreign-Trade Zone 72—Indianapolis, IN; Application for Reorganization Under Alternative Site Framework

An application has been submitted to the Foreign-Trade Zones (FTZ) Board (the Board) by the Indianapolis Airport Authority, grantee of FTZ 72, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on August 17, 2010.

FTZ 72 was approved by the Board on September 28, 1981 (Board Order 179, 46 FR 50091, 10/9/1981) and expanded on September 2, 1992 (Board Order 598, 57 FR 41915, 9/14/1992) and on November 18, 2004 (Board Order 1359, 69 FR 70121, 12/2/2004).

The current zone project includes the following sites: Site 1: (4,832 acres) within the Indianapolis International Airport complex; Site 2: (318 acres) Flagship Industrial Park, West 73rd Street, Anderson, Madison County; Site 3: (674 acres) within the Park 100 Business Park, located at 71st Street and Interstate 465, Indianapolis, Marion County (includes 3 acres located at 4950 W. 79th Street); Site 4: (154 acres) within the Park Fletcher Business Park, located at Interstate 465 and Airport Expressway, Indianapolis, Marion County; Site 5: (182 acres) within the Plainfield Business Park, Plainfield, Hendricks County; Site 9: (27 acres) located at 2300 Southeastern Avenue, Indianapolis, Marion County; Site 10: (52 acres) located at 3003 Reeves Road, Plainfield, Hendricks County; Site 11: (5 acres) located at 4605 Decatur Boulevard, Indianapolis; Site 12: (258 acres) Scatterfield Business Park, Scatterfield Road, Anderson, Marion County; and, Site 13: (44 acres)—Eagle Park, located south of Interstate 69, west of State Road 109 and north of 67th Street, Anderson, Marion County.

The grantee's proposed service area under the ASF would be Bartholomew, Benton, Boone, Carroll, Cass, Clay, Clinton, Decatur, Delaware, Fayette, Fountain, Franklin, Grant, Greene, Hamilton, Hancock, Hendricks, Henry, Howard, Jennings, Johnson, Lawrence, Madison, Marion, Miami, Monroe, Montgomery, Morgan, Owen, Parke, Putnam, Rush, Shelby, Tippecanoe, Tipton, Vigo, Warren, Wayne and White Counties, Indiana, as described in the application. If approved, the grantee would be able to serve sites throughout the service area based on companies' needs for FTZ designation. The proposed service area is adjacent to the Indianapolis Customs and Border Protection port of entry.

The applicant is requesting authority to reorganize and expand its existing zone project to include existing Sites 1-3 and 12-13 as “magnet” sites and Sites 9-11 as “usage-driven” sites, as well as to remove Sites 4 and 5. The ASF allows for the possible exemption of one magnet site from the “sunset” time limits that generally apply to sites under the ASF, and the applicant proposes that Site 1 be so exempted. The applicant is also requesting approval of the following new “magnet” sites: Proposed Site 6: (123 acres) EaglePoint Business Park, adjacent to the I-74/I-65 interchange, Brownsburg, Hendricks County; Proposed Site 7: (933 acres) AllPoints Business Park, west of Ronald Reagan Parkway and north of State Highway 40, Plainfield, Hendricks County; and, Proposed Site 8: (503 acres) Lebanon Business Park, southwest corner of the intersection of I-655 and State Route 32, Lebanon, Boone County. Because the ASF only pertains to establishing or reorganizing a general-purpose zone, the application would have no impact on FTZ 72's authorized subzones.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is October 22, 2010. Rebuttal comments in response to material submitted during the foregoing period may be submitted during the subsequent 15-day period to November 8, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth.Whiteman@trade.gov or (202) 482-0473.

Dated: August 17, 2010.
Andrew McGilvray,
Executive Secretary.

[FR Doc. 2010-20901 Filed 8-20-10; 8:45 am]

BILLING CODE P